DEPARTMENT OF ENERGY

Federal Energy Regulatory Commission

[Docket No. RP01-504-000]

National Fuel Gas Supply Corporation; Notice of Proposed Changes in FERC Gas Tariff

August 9, 2001.

Take notice that on August 6, 2001 National Fuel Gas Supply Corporation (National Fuel) tendered for filing as part of its FERC Gas Tariff, Fourth Revised Volume No. 1, Fourth Revised Sheet No. 2, Original Sheet No. 479 and Sheet Nos. 480—674 (Reserved for Future Use) with a proposed effective date of September 5, 2001.

National Fuel states that the purpose of the instant filing is to modify its tariff to provide for a general waiver of the “shipper must have title” rule in the event that National Fuel is transporting gas or storing gas for others on acquired offsystem capacity and to include a general statement that National Fuel will only transport or store gas for others using offsystem capacity pursuant to its existing tariff.

National Fuel states that copies of this filing were served upon its customers and interested state commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-20457 Filed 8-14-01; 8:45 am]

BILLING CODE 6717-01-P